DEPARTMENT OF HOMELAND SECURITY

U.S. Customs and Border Protection

[1651-0121]

Agency Information Collection Activities: Trusted Traveler Programs and U.S. APEC Business Travel Card

AGENCY: U.S. Customs and Border Protection (CBP), Department of Homeland Security.

ACTION: 60-Day notice and request for comments; extension of an existing collection of information.

SUMMARY: The Department of Homeland Security, U.S. Customs and Border Protection will be submitting the following information collection request to the Office of Management and Budget (OMB) for review and approval in accordance with the Paperwork Reduction Act of 1995 (PRA). The information collection is published in the Federal Register to obtain comments from the public and affected agencies.

DATES: Comments are encouraged and will be accepted (no later than June 5, 2018 to be assured of consideration.

ADDRESSES: Written comments and/or suggestions regarding the item(s) contained in this notice must include the OMB Control Number 1651-0121 in the subject line and the agency name. To avoid duplicate submissions, please use only one of the following methods to submit comments: (1) Email: Submit comments to: CBP_PRA@cbp.dhs.gov. (2) Mail: Submit written comments to CBP Paperwork Reduction Act Officer, U.S. Customs and Border Protection, Office of Trade, Regulations and Rulings, Economic Impact Analysis Branch, 90 K Street NE, 10th Floor, Washington, DC 20229-1177.

FOR FURTHER INFORMATION CONTACT: Requests for additional PRA information should be directed to Seth Renkema, Chief, Economic Impact Analysis Branch, U.S. Customs and Border Protection, Office of Trade, Regulations and Rulings, 90 K Street NE, 10th Floor, Washington, DC 20229-1177, Telephone number (202) 325-0056 or via email CBP_PRA@cbp.dhs.gov. Please note that the contact information provided here is solely for questions regarding this notice. Individuals seeking information about other CBP programs should contact the CBP National Customer Service Center at 877-227-5511, (TTY) 1-800-877-8339, or CBP website at https://www.cbp.gov/.

SUPPLEMENTARY INFORMATION: CBP invites the general public and other Federal agencies to comment on the proposed and/or continuing information collections pursuant to the Paperwork Reduction Act of 1995 (44 U.S.C. 3501 et seq.). This process is conducted in accordance with 5 CFR 1320.8. Written comments and suggestions from the public and affected agencies should address one or more of the following four points: (1) Whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: Trusted Traveler Programs and U.S. APEC Business Travel Card.

OMB Number: 1651-0121.

Form Numbers: 823S (SENTRI) and 823F (FAST).

Abstract: This collection of information is for CBP's Trusted Traveler Programs, including the Secure Electronic Network for Travelers Rapid Inspection (SENTRI), which allows expedited entry at specified land border ports of entry along the U.S.-Mexico border; the Free and Secure Trade (FAST) Program, which provides expedited border processing for known, low-risk commercial drivers; and Global Entry, which allows pre-approved, low-risk air travelers expedited clearance upon arrival into the United States.

The purpose of all of these programs is to provide prescreened travelers expedited entry into the United States. The benefit to the traveler is less time spent in line waiting to be processed. These Trusted Traveler Programs are provided for in 8 CFR 235.7, 235.12, and 8 CFR 103.7(b)(1)(ii)(G)and(M).

This information collection also includes the U.S. Asia-Pacific Economic Cooperation (APEC) Business Travel Card (ABTC) Program, which is a voluntary program that allows U.S. citizens to use fast-track immigration lanes at airports in the 20 other APEC member countries. This program is mandated by the Asia-Pacific Economic Cooperation Business Travel Cards Act of 2011, Public Law 112-54, and provided for by 8 CFR 235.13 and 8 CFR 103.7(b)(1)(ii)(N). Pursuant to these laws and regulations, ABTCs could be issued through September 30, 2018. On November 2, 2017, the President signed into law the Asia-Pacific Economic Corporation Business Travel Cards Act of 2017, which makes the ABTC Program permanent. Public Law 115-79. CBP is in the process of updating 8 CFR 235.13 to conform to the new law.

The data is collected on the applications and kiosks for the Trusted Traveler Programs. Applicants may apply to participate in these programs by using the Trusted Traveler Program Systems (TTP Systems) at https://ttp.cbp.dhs.gov/. Applicants may also apply for SENTRI and FAST using paper forms (CBP Form 823S for SENTRI and CBP Form 823F for FAST) available at http://www.cbp.gov or at Trusted Traveler Enrollment Centers. After arriving at the Federal Inspection Services area of the airport, participants in Global Entry can undergo a self-service inspection process using a Global Entry kiosk. During the self-service inspection, participants have their photograph and fingerprints taken, submit identifying information, and answer several questions about items they are bringing into the United States. When using the Global Entry kiosks, participants are required to declare all articles being brought into the United States pursuant to 19 CFR 148.11.

Current Actions: This submission is being made to extend the expiration date with no change to the information collected. There is an increase to the burden hours.

Type of Review: Extension (without change).

Affected Public: Individuals and Businesses.

SENTRI (Form 823S)

Estimated Number of Annual Respondents: 126,645.

Estimated Number of Total Annual Responses: 126,645.

Estimated Time per Response: 40 minutes.

Estimated Total Annual Burden Hours: 84,852.

FAST (Form 823F)

Estimated Number of Annual Respondents: 12,617.

Estimated Number of Total Annual Responses: 12,617.

Estimated Time per Response: 40 minutes.

Estimated Total Annual Burden Hours: 8,453.

Global Entry

Estimated Number of Annual Respondents: 1,414,434.

Estimated Number of Total Annual Responses: 1,414,434.

Estimated Time per Response: 40 minutes.

Estimated Total Annual Burden Hours: 947,670.

ABTC

Estimated Number of Annual Respondents: 14,215.

Estimated Number of Total Annual Responses: 14,215.

Estimated Time per Response: 10 minutes.

Estimated Total Annual Burden Hours: 2,416.

Global Entry Kiosks

Estimated Number of Annual Respondents: 9,750,212.

Estimated Number of Total Annual Responses: 9,750,212.

Estimated Time per Response: 1 minute.

Estimated Total Annual Burden Hours: 156,003.

Dated: April 3, 2018.
Seth D. Renkema,
Branch Chief, Economic Impact Analysis Branch, U.S. Customs and Border Protection.

[FR Doc. 2018-07063 Filed 4-5-18; 8:45 am]

BILLING CODE 9111-14-P